ENVIRONMENTAL PROTECTION AGENCY

40 CFR Part 52

[FL-2017; FRL-9975-70-Region 4]

Air Plan Approval; Florida; Update to Materials Incorporated by Reference

AGENCY: Environmental Protection Agency (EPA).

ACTION: Final rule; notification of administrative change.

SUMMARY: The Environmental Protection Agency (EPA) is updating the materials that are incorporated by reference (IBR) into the Florida state implementation plan (SIP). The regulations affected by this update have been previously submitted by Florida and approved by EPA. This update affects the materials that are available for public inspection at the National Archives and Records Administration (NARA) and the EPA Regional Office.

DATES: This action is effective April 18, 2018.

ADDRESSES: SIP materials which are incorporated by reference into 40 CFR part 52 are available for inspection at the following locations: Environmental Protection Agency, Region 4, 61 Forsyth Street SW, Atlanta, GA 30303; and the National Archives and Records Administration. For information on the availability of this material at NARA, call 202-741-6030, or go to: http://www.archives.gov/federal-register/cfr/ibr-locations.html. To view the materials at the Region 4 Office, EPA request that you email the contact listed in the FOR FURTHER INFORMATION CONTACT section.

FOR FURTHER INFORMATION CONTACT: Sean Lakeman, Air Regulatory Management Section, Air Planning and Implementation Branch, Air, Pesticides and Toxics Management Division, U.S. Environmental Protection Agency, Region 4, 61 Forsyth Street SW, Atlanta, Georgia 30303-8960. Mr. Lakeman can be reached via telephone at (404) 562-9043 or via electronic mail at lakeman.sean@epa.gov.

SUPPLEMENTARY INFORMATION:

I. Background

Each state has a SIP containing the control measures and strategies used to attain and maintain the national ambient air quality standards (NAAQS). The SIP is extensive, containing such elements as air pollution control regulations, emission inventories, monitoring networks, attainment demonstrations, and enforcement mechanisms.

Each state must formally adopt the control measures and strategies in the SIP after the public has had an opportunity to comment on them and then submit the proposed SIP revisions to EPA. Once these control measures and strategies are approved by EPA, and after notice and comment, they are incorporated into the federally-approved SIP and are identified in part 52 “Approval and Promulgation of Implementation Plans,” title 40 of the Code of Federal Regulations (40 CFR part 52). The full text of the state regulation approved by EPA is not reproduced in its entirety in 40 CFR part 52, but is “incorporated by reference.” This means that EPA has approved a given state regulation with a specific effective date. The public is referred to the location of the full text version should they want to know which measures are contained in a given SIP. The information provided allows EPA and the public to monitor the extent to which a state implements a SIP to attain and maintain the NAAQS and to take enforcement action if necessary.

The SIP is a living document which the state can revise as necessary to address the unique air pollution problems in the state. Therefore, EPA from time to time must take action on proposed revisions containing new and/or revised state regulations. A submission from a state can revise one or more rules in their entirety or portions of rules, even change a single word. The state indicates the changes in the submission (such as, by using redline/strikethrough) and EPA then takes action on the requested changes. EPA establishes a docket for its actions using a unique Docket Identification Number. which is listed in each action. These dockets and the complete submission are available for viewing on www.regulations.gov.

On May 22, 1997, (62 FR 27968), EPA revised the procedures for incorporating by reference, into the Code of Federal Regulations, materials approved by EPA into each state SIP. These changes revised the format for the identification of the SIP in 40 CFR part 52, streamlined the mechanisms for announcing EPA approval of revisions to a SIP, and streamlined the mechanisms for EPA's updating of the IBR information contained for each SIP in 40 CFR part 52. The revised procedures also called for EPA to maintain “SIP Compilations” that contain the federally-approved regulations and source specific permits submitted by each state agency. These SIP Compilations are updated primarily on an annual basis. Under the revised procedures, EPA must periodically publish an informational document in the rules section of the Federal Register notifying the public that updates have been made to a SIP Compilation for a particular state. EPA applied the 1997 revised procedures to Florida on June 16, 1999 (64 FR 32346).

II. EPA Action

This action represents EPA's publication of the Florida SIP Compilation update, appearing in 40 CFR part 52: Specifically, the materials of paragraphs (c) and (d) at 40 CFR 52. In addition, notice is provided of correcting typographical errors, state effective dates, EPA approval dates and Federal Register citations listed in to Table (c) paragraph of paragraph 52.520, as described below:

A. Under the “State effective date” and “EPA approval date” changing the 2-digit year to reflect a 4-digit year (for consistency) and correcting numerous Federal Register citation to reflect the first page of the preamble opposed to the regulatory text page.

B. 62-204.220 Title is revised to read “Ambient Air Quality Protection.”

C. 62-210.920 entry is removed from table. See 82 FR 46682

D. 62-244.100 State effective date is revised to read “2/21/1990”.

E. 62-244.200 State effective date is revised to read “2/21/1990”.

F. 62-244.300 State effective date is revised to read “2/21/1990”.

G. 62-244.400 State effective date is revised to read “2/21/1990”.

H. 62-244.500 State effective date is revised to read “2/21/1990”.

I. 62-244.600 State effective date is revised to read “2/21/1990”.

J. 62-296.509 entry is removed from table because EPA previously approved removal of the rule from the Florida SIP. See 74 FR 26103 (June 1, 2009).

III. Good Cause Exemption

EPA has determined that this action falls under the “good cause” exemption in the section 553(b)(3)(B) of the Administrative Procedure Act (APA) which, upon finding “good cause,” authorizes agencies to dispense with public participation and section 553(d)(3) which allows an agency to make an action effective immediately (thereby avoiding the 30-day delayed effective date otherwise provided for in the APA). This administrative action simply codifies provisions which are already in effect as a matter of law in Federal and approved state programs and corrects typographical errors appearing in the CFR. Under section 553(b)(3)(B) of the APA, an agency may find good cause where procedures are “impracticable, unnecessary, or contrary to the public interest.” Public comment for this administrative action is “unnecessary” and “contrary to the public interest” since the codification (and typographical corrections) only reflect existing law. Immediate notice of this action in the Federal Register benefits the public by providing the public notice of the updated Florida SIP Compilation and notice of typographical corrections to the Florida “Identification of Plan” portion of the Federal Register. Further, pursuant to section 553(d)(3), making this action immediately effective benefits the public by immediately updating both the SIP compilation and the CFR “Identification of plan” section (which includes table entry corrections).

IV. Incorporation by Reference

In this rule, EPA is finalizing regulatory text that includes incorporation by reference. In accordance with requirements of 1 CFR 51.5, EPA is finalizing the incorporation by reference of previously EPA-approved regulations promulgated by Florida and federally effective prior to October 1, 2017. EPA has made, and will continue to make, these materials generally available through www.regulations.gov and at the EPA Region 4 Office (please contact the person identified in the FOR FURTHER INFORMATION CONTACT section of this preamble for more information).

V. Statutory and Executive Order Reviews

Under the CAA, the Administrator is required to approve a SIP submission that complies with the provisions of the Act and applicable federal regulations. See 42 U.S.C. 7410(k); 40 CFR 52.02(a). Thus, in reviewing SIP submissions, EPA's role is to approve state choices, provided that they meet the criteria of the CAA. This notification of administrative change does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

EPA also believes that the provisions of section 307(b)(1) of the CAA pertaining to petitions for judicial review are not applicable to this action. This is because prior EPA rulemaking actions for each individual component of the Florida SIP compilations previously afforded interested parties the opportunity to file a petition for judicial review in the United States Court of Appeals for the appropriate circuit within 60 days of such rulemaking action. Thus, EPA believes judicial review of this action under section 307(b)(1) is not available.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: January 29, 2018.
Onis “Trey” Glenn, III
Regional Administrator, Region 4.

40 CFR part 52 is amended as follows:

PART 52—APPROVAL AND PROMULGATION OF IMPLEMENTATION PLANS

1. The authority for citation for part 52 continues to read as follows:

Authority: 42 U.S.C. 7401 et seq.

Subpart K-Florida

2. In § 52.520, paragraphs (b) through (d) are revised to read as follows:

§ 52.520 Identification of plan.

* * * * *

(b) Incorporation by reference. (1) Material listed in paragraphs (c) and (d) of this section with an EPA approval date prior to October 1, 2017, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after October 1, 2017, for Florida will be incorporated by reference in the next update to the SIP compilation.

(2) EPA Region 4 certifies that the rules/regulations provided by EPA in the SIP compilation at the addresses in paragraph (b)(3) of this section are an exact duplicate of the officially promulgated State rules/regulations which have been approved as part of the State Implementation Plan as of the dates referenced in paragraph (b)(1) of this section.

(3) Copies of the materials incorporated by reference may be inspected at the Region 4 EPA Office at 61 Forsyth Street SW, Atlanta, GA 30303. To obtain the material, please call (404) 562-9022. You may inspect the material with an EPA approval date prior to October 1, 2017, for Florida at the National Archives and Records Administration. For information on the availability of this material at NARA go to: http://www.archives.gov/federal-register/cfr/ibr-locations.html.

(c) EPA Approved Florida Regulations.

EPA Approved Florida Regulations
State citation (section) | Title/subject | State effective date | EPA approval date | Explanation
Chapter 62-204 Air Pollution Control—General Provisions
62-204.100 | Purpose and Scope | 3/13/1996 | 6/16/1999, 64 FR 32353
62-204.200 | Definitions | 2/12/2006 | 6/27/2008, 73 FR 36435
62-204.220 | Ambient Air Quality Protection | 3/13/1996 | 6/16/1999, 64 FR 32346
62-204.240 | Ambient Air Quality Standards | 3/13/1996 | 6/16/1999, 64 FR 32346
62-204.260 | Prevention of Significant Deterioration Maximum Allowable Increases (PSD Increments) | 2/12/2006 | 6/27/2008, 73 FR 36435
62-204.320 | Procedures for Designation and Redesignation of Areas | 3/13/1996 | 6/16/1999, 64 FR 32346
62-204.340 | Designation of Attainment, Nonattainment, and Maintenance Areas | 3/13/1996 | 6/16/1999, 64 FR 32346
62-204.360 | Designation of Prevention of Significant Deterioration Areas | 3/13/1996 | 6/16/1999, 64 FR 32346
62-204.400 | Public Notice and Hearing Requirements for State Implementation Plan Revisions | 11/30/1994 | 6/16/1999, 64 FR 32353
62-204.500 | Conformity | 8/31/1998 | 8/11/2003, 68 FR 47468 | Except for the incorporation by reference of 40 CFR 93.104(e) of the Transportation Conformity Rule.
Chapter 62-210 Stationary Sources—General Requirements
62-210.200 | Definitions | 3/28/2012 | 10/6/2017, 82 FR 46682 | Selected definitions are approved into the SIP.
62-210.220 | Small Business Assistance Program | 10/6/08 | 7/3/2017, 82 FR 30767
62-210.300 | Permits Required | 5/9/2007 | 6/1/2009, 63 FR 26103
62-210.310 | Air General Permits | 6/29/2011 | 10/6/2017, 82 FR 46682
62-210.350 | Public Notice and Comment | 10/12/2008 | 10/6/2017, 82 FR 46682 | Excludes revisions state effective February 11, 1999, which added 62-210.350(1)(c) avs 62-210.350(4)(a)2, and revised 62-210.350(4)(b).
62-210.360 | Administrative Permit Corrections | 11/23/1994 | 6/16/1999, 64 FR 32346
62-210.370 | Emissions Computation and Reporting | 2/2/2006 | 6/27/2008, 73 FR 36435
62-210.550 | Stack Height Policy | 11/23/1994 | 6/16/1999, 64 FR 32346
62-210.650 | Circumvention | 10/15/1992 | 10/20/1994, 59 FR 52916
62-210.700 | Excess Emissions | 11/23/1994 | 6/16/1999, 64 FR 32346
62-210.900 | Forms and Instructions | 2/9/1993 | 11/7/1994, 59 FR 46157
Chapter 62-212 Stationary Sources—Preconstruction Review
62-212.300 | General Preconstruction Review Requirements | 6/29/2009 | 4/12/2011, 76 FR 20239
62-212.400 | Prevention of Significant Deterioration | 3/28/2012 | 9/19/2012, 77 FR 58027 | As of September 19, 2012, 61-212.400 does not include Florida's revision to adopt the PM2.5 SILs threshold and provisions (as promulgated in the October 20, 2010, PM2.5 PSD Increment-SILs-SMC Rule at 40 CFR 52.21(k)(2)).
62-212.500 | Preconstruction Review for Nonattainment Areas | 2/2/2006 | 6/27/2008, 73 FR 36435
62-212.720 | Actuals Plantwide Applicability Limits (PALs) | 12/17/2013 | 7/3/2017, 82 FR 30767
Chapter 62-243 Tampering With Motor Vehicle Air Pollution Control Equipment
62-243.100 | Purpose and Scope | 5/29/1990 | 6/9/1992, 57 FR 24370
62-243.200 | Definitions | 1/2/1991 | 6/9/1992, 57 FR 24378
62-243.300 | Exemptions | 1/2/1991 | 6/9/1992, 57 FR 24378
62-243.400 | Prohibitions | 1/2/1991 | 6/9/1992, 57 FR 24378
62-243.500 | Certification | 1/2/1991 | 6/9/1992, 57 FR 24378
62-243.600 | Enforcement | 1/2/1991 | 6/9/1992, 57 FR 24378
62-243.700 | Penalties | 5/29/1990 | 6/9/1992, 57 FR 24370
Chapter 62-244 Visible Emissions From Motor Vehicles
62-244.100 | Purpose and Scope | 2/21/1990 | 6/9/1992, 57 FR 24370
62-244.200 | Definitions | 2/21/1990 | 6/9/1992, 57 FR 24370
62-244.300 | Exemptions | 2/21/1990 | 6/9/1992, 57 FR 24370
62-244.400 | Prohibitions | 2/21/1990 | 6/9/1992, 57 FR 24370
62-244.500 | Enforcement | 2/21/1990 | 6/9/1992, 57 FR 24370
62-244.600 | Penalties | 2/21/1990 | 6/9/1992, 57 FR 24370
Chapter 62-252 Gasoline Vapor Control
62-252.300 | Gasoline Dispensing Facilities Stage I Vapor Recovery | 5/1/2015 | 8/12/2015, 80 FR 48259
Chapter 62-256 Open Burning and Frost Protection Fires
62-256.100 | Declaration and Intent | 12/09/1975 | 11/1/1977, 42 FR 57124
62-256.200 | Definitions | 11/30/1994 | 6/16/1999, 64 FR 32346
62-256.300 | Prohibitions | 11/30/1994 | 6/16/1999, 64 FR 32346
62-256.400 | Agricultural and Silvicultural Fires | 7/1/1971 | 5/31/1972, 37 FR 10842
62-256.450 | Burning for Cold or Frost Protection | 6/27/1991 | 9/9/1994, 59 FR 46552
62-256.500 | Land Clearing | 11/30/1994 | 6/16/1999, 64 FR 32346
62-256.600 | Industrial, Commercial, Municipal, and Research Open Burning | 7/1/1971 | 5/31/1972, 37 FR 10842
62-256.700 | Open Burning Allowed | 11/30/1994 | 6/16/1999, 64 FR 32346
62-256.800 | Effective Date | 7/1/1971 | 5/31/1972, 37 FR 10842
Chapter 62-296 Stationary Sources—Emission Standards
62-296.100 | Purpose and Scope | 10/6/2008 | 10/6/2017, 82 FR 46682
62-296.320 | General Pollutant Emission Limiting Standards | 3/13/1996 | 6/16/1999, 64 FR 32346
62-296.340 | Best Available Retrofit Technology | 1/31/2007 | 8/29/2013, 78 FR 53250
62-296.401 | Incinerators | 3/13/1996 | 6/16/1999, 64 FR 32346
62-296.402 | Sulfuric Acid Plants | 3/13/1996 | 6/16/1999, 64 FR 32346
62-296.403 | Phosphate Processing | 3/13/1996 | 6/16/1999, 64 FR 32346
62-296.404 | Kraft (Sulfate) Pulp Mills and Tall Oil Plants | 3/13/1996 | 6/16/1999, 64 FR 32346
62-296.405 | Fossil Fuel Steam Generators with more than 250 million Btu per Hour Heat Input | 3/2/1999 | 10/6/2017, 82 FR 46682
62-296.406 | Fossil Fuel Steam Generator with less than 250 million Btu per Hour Heat Input, New and Existing Emissions Units | 3/2/1999 | 10/6/2017, 82 FR 46682
62-296.408 | Nitric Acid Plants | 11/23/1994 | 6/16/1999, 64 FR 32346
62-296.409 | Sulfur Recovery Plants | 11/23/1994 | 6/16/1999, 64 FR 32346
62-296.410 | Carbonaceous Fuel Burning Equipment | 11/23/1994 | 6/16/1999, 64 FR 32346
62-296.412 | Dry Cleaning Facilities | 3/11/2010 | 10/6/2017, 82 FR 46682
62-296.414 | Concrete Batching Plants | 1/10/2007 | 10/6/2017, 82 FR 46682
62-296.415 | Soil Thermal Treatment Facilities | 3/13/1996 | 6/16/1999, 64 FR 32346
62-296.418 | Bulk Gasoline Plants | 3/11/2010 | 10/6/2017, 82 FR 46682
62-296.470 | Implementation of Federal Clean Air Interstate Rule | 4/1/2007 | 10/12/07, 72 FR 58016
62-296.500 | Reasonably Available Control Technology (RACT)—Volatile Organic Compounds (VOC) and Nitrogen Oxides (NOX) Emitting Facilities | 3/11/2010 | 10/6/2017, 82 FR 46682
62-296.501 | Can Coating | 11/23/1994 | 6/16/1999, 64 FR 32346
62-296.502 | Coil Coating | 11/23/1994 | 6/16/1999, 64 FR 32346
62-296.503 | Paper Coating | 11/23/1994 | 6/16/1999, 64 FR 32346
62-296.504 | Fabric and Vinyl Coating | 11/23/1994 | 6/16/1999, 64 FR 32346
62-296.505 | Metal Furniture Coating | 11/23/1994 | 6/16/1999, 64 FR 32346
62-296.506 | Surface Coating of Large Appliances | 11/23/1994 | 6/16/1999, 64 FR 32346
62-296.507 | Magnet Wire Coating | 11/23/1994 | 6/16/1999, 64 FR 32346
62-296.508 | Petroleum Liquid Storage | 10/6/2008 | 10/6/2017, 82 FR 46682 | Amendments effective 10/6/08.
62-296.510 | Bulk Gasoline Terminals | 11/23/1994 | 6/16/1999, 64 FR 32346
62-296.511 | Solvent Metal Cleaning | 6/5/1996 | 01/16/2003, 68 FR 2204
62-296.512 | Cutback Asphalt | 11/23/1994 | 6/16/1999, 64 FR 32346
62-296.513 | Surface Coating of Miscellaneous Metal Parts and Products | 11/23/1994 | 6/16/1999, 64 FR 32346
62-296.514 | Surface Coating of Flat Wood Paneling | 11/23/1994 | 6/16/1999, 64 FR 32346
62-296.515 | Graphic Arts Systems | 11/23/1994 | 6/16/1999, 64 FR 32346
62-296.516 | Petroleum Liquid Storage Tanks with External Floating Roofs | 11/23/1994 | 6/16/1999, 64 FR 32346
62-296.570 | Reasonably Available Control Technology (RACT)—Requirements for Major VOC and NOX—Emitting Facilities | 11/23/1994 | 6/16/1999, 64 FR 32346
62-296.600 | Reasonably Available Control Technology (RACT)—Lead | 3/13/1996 | 6/16/1999, 64 FR 32346
62-296.601 | Lead Processing Operations in General | 8/8/1994 | 9/18/1996, 61 FR 49064
62-296.602 | Primary Lead Acid Battery Manufacturing Operations | 3/13/1996 | 9/18/1996, 61 FR 49064
62-296.603 | Secondary Lead Smelting Operations | 8/8/1994 | 9/18/1996, 61 FR 49064
62-296.604 | Electric Arc Furnace Equipped Secondary Steel Manufacturing Operations | 8/8/1994 | 9/18/1996, 61 FR 49064
62-296.605 | Lead Oxide Handling Operations | 8/8/1994 | 9/18/1996, 61 FR 49064
62-296.700 | Reasonably Available Control Technology (RACT)—Particulate Matter | 11/23/1994 | 6/16/1999, 64 FR 32346
62-296.701 | Portland Cement Plants | 11/23/1994 | 6/16/1999, 64 FR 32346
62-296.702 | Fossil Fuel Steam Generators | 11/23/1994 | 6/16/1999, 64 FR 32346
62-296.703 | Carbonaceous Fuel Burners | 11/23/1994 | 6/16/1999, 64 FR 32346
62-296.704 | Asphalt Concrete Plants | 11/23/1994 | 6/16/1999, 64 FR 32346
62-296.705 | Phosphate Processing operations | 11/23/1994 | 6/16/1999, 64 FR 32346
62-296.706 | Glass Manufacturing Process | 11/23/1994 | 6/16/1999, 64 FR 32346
62-296.707 | Electric Arc Furnaces | 11/23/1994 | 6/16/1999, 64 FR 32346
62-296.708 | Sweat of Pot Furnaces | 11/23/1994 | 6/16/1999, 64 FR 32346
62-296.709 | Lime Kilns | 11/23/1994 | 6/16/1999, 64 FR 32346
62-296.710 | Smelt Dissolving Tanks | 11/23/1994 | 6/16/1999, 64 FR 32346
62-296.711 | Materials Handling, Sizing, Screening, Crushing and Grinding operations | 11/23/1994 | 6/16/1999, 64 FR 32346
62-296.712 | Miscellaneous Manufacturing Process Operations | 11/23/1994 | 6/16/1999, 64 FR 32346
Chapter 62-297 Stationary Sources—Emissions Monitoring
62-297.310 | General Emissions Test Requirements | 3/9/2015 | 10/6/2017, 82 FR 46682
62-297.400 | EPA Methods Adopted by Reference | 11/23/1994 | 6/16/1999, 64 FR 32346
62-297.401 | Compliance Test Methods | 3/13/1996 | 6/16/1999, 64 FR 32346
62-297.440 | Supplementary Test Procedures | 11/23/1994 | 6/16/1999, 64 FR 32346
62-297.450 | EPA VOC Capture Efficiency Test Procedures | 3/2/1999 | 10/6/2017, 82 FR 46682
62-297.620 | Exceptions and Approval of Alternate Procedures and Requirements | 11/23/1994 | 6/16/1999, 64 FR 32346
State Statutes
112.3143(4) | Voting Conflict | 4/19/2012 | 7/30/2012, 77 FR 44485 | To satisfy the requirements of sections 128 and 110(a)(2)(E)(ii).
112.3144 | Full and Public Disclosure of Financial Interests | 4/19/2012 | 7/30/2012, 77 FR 44485 | To satisfy the requirements of sections 128 and 110(a)(2)(E)(ii).
403.131 | Injunctive relief, remedies | 4/19/2012 | 7/30/2012, 77 FR 44485 | To satisfy the requirements of section 110(a)(2)(G).
120.569 | Decisions which affect substantial interests | 4/19/2012 | 7/30/2012, 77 FR 44485 | To satisfy the requirements of section 110(a)(2)(G).

(d) EPA-approved State Source-specific requirements.

EPA-Approved Florida Source-Specific Requirements
Name of source | Permit No. | State effective date | EPA approval date | Explanation
Harry S Truman, animal import center | NA | 11/26/1996 | 1/19/2000, 65 FR 2882
Martin Gas Sales, Inc | 0570477-007-AC | 1/17/2003 | 5/1/2003, 68 FR 23209
Broward County Aviation Department |  | 8/15/2003 | 6/17/2003, 69 FR 33862 | Order Granting Variance from Rule 62-252.400.
Lockheed Martin Aeronautics Company |  | 4/16/2005 | 11/28/2006, 71 FR 68745 | Requirement that Lockheed Martin Aeronautics Company comply with EPA's Aerospace CTG at its Pinellas County facility.
Combs Oil Company |  | 7/31/2009 | 9/25/2015, 80 FR 57727 | Order Granting Variance from Rule 62-296.418(2)(b)2.
Mosaic Fertilizer, LLC | Air Permit No. 0570008-080-AC | 1/15/2015 | 7/3/2017, 82 FR 30749 | Specific Conditions pertaining to: EU004; EU005; and EU006.
Rayonier Performance Fibers, LLC | Air Permit No. 0890004-036-AC | 4/12/2012 | 7/3/2017, 82 FR 30749 | Specific Conditions pertaining to: EU005; EU006; and EU022.
Tampa Electric Company—Big Bend Station | Air Permit No. 0570039-074-AC | 2/26/2015 | 7/3/2017, 82 FR 30749 | Specific Conditions pertaining to: EU001; EU002; EU003 and EU004.
WestRock, LLC | Air Permit No. 0890003-046-AC | 1/9/2015 | 7/3/2017, 82 FR 30749 | Specific Conditions pertaining to: EU006; EU015; EU007 and EU011.

* * * * *

[FR Doc. 2018-07900 Filed 4-17-18; 8:45 am]

BILLING CODE 6560-50-P